FEDERAL COMMUNICATIONS COMMISSION

Notice of Public Information Collection(s) Being Reviewed by the Federal Communications Commission

August 26, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a current valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before November 4, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554, or via the Internet to lesmith@fcc.gov.

FOR FURTHER INFORMATION CONTACT: For additional information or copies of the information collection(s) contact Les Smith at 202-418-0217 or via the Internet at lesmith@fcc.gov.

SUPPLEMENTARY INFORMATION: OMB Control Number: 3060-0636.

Title: Equipment Authorization—Declaration of Compliance, Parts 2 and 15.

Form Number: N/A.

Type of Review: Extension of a currently approved collection.

Respondents: Business or other for-profit entities.

Number of Respondents: 6,000.

Estimated Time per Response: 19 hours (avg.).

Frequency of Response: Recordkeeping; Single reporting requirement.

Total Annual Burden: 76,000 hours.

Total Estimated Cost: $1,200,000.

Needs and Uses: The equipment authorization procedure requires the manufacturer or equipment supplier to test the product to ensure compliance with technical standards for limiting radio frequency emissions and to include a declaration of compliance (DoC) with the standards in the literature furnished with the equipment. Testing and compliance documentation aid in controlling potential interference to radio communications. The test data may be used to investigate complaints of harmful interference; to determine that the equipment marketed complies with the applicable FCC; and to insure that the operation of the equipment is consistent with the documented test results. FCC rules require the responsible party to make the statement of compliance and supporting technical data available to the Commission upon request. The FCC rules also authorize personal computers based on tests and approval of their individual components, without further testing of the completed assembly.

OMB Control Number: 3060-0703.

Title: Determining Costs of Regulated Cable Equipment and Installation, FCC Form 1205.

Form Number: FCC Form 1205.

Type of Review: Extension of currently approved collection.

Respondents: Business or other for-profit entities; State, Local or Tribal Government.

Number of Respondents: 4,000.

Estimated Time per Response: 4-12 hours.

Frequency of Response: Recordkeeping; On occasion reporting requirements.

Total annual burden: 50,800 hours.

Total Annual Costs: $900,000.

Needs and Uses: Pursuant to 47 CFR Section 76.923, cable operators must keep records and file FCC Form 1205 with the local franchise authority (LFA) to demonstrate that charges for the sale and lease of equipment for installation have been developed in accordance with the FCC rules. The LFA uses the information derived from FCC Form 1205 filings to review equipment and installation rates.

OMB Control Number: 3060-0573.

Title: Application for Franchise Authority Consent to Assignment or Transfer of Control of Cable Television Franchise, FCC Form 394.

Form Number: FCC Form 394.

Type of Review: Extension of currently approved collection.

Respondents: Business or other for-profit entities; State, Local or Tribal Government.

Number of Respondents: 2,000.

Estimated Time per Response: 1-5 hours.

Frequency of Response: On occasion reporting requirement.

Total Annual Burden: 7,000 hours.

Total Annual Costs: $377,000.

Needs and Uses: Cable operators use FCC Form 394 to apply to the local franchise authority (LFA) for approval to assign or transfer control of a cable television system. With the information provided by Form 394, LFAs can restrict profiteering transactions and other transfers that are likely to have an adverse effect on cable rates or service in the franchise area.

Federal Communications Commission.
Marlene H. Dortch,
Secretary.

[FR Doc. 02-22508 Filed 9-3-02; 8:45 am]

BILLING CODE 6712-01-P